DEPARTMENT OF VETERANS AFFAIRS

Privacy Act of 1974; Amendment of System of Records

AGENCY: Department of Veterans Affairs.

ACTION: Notice.

Notice is hereby given that the Department of Veterans Affairs (VA) is revising an existing routine use to the system of records entitled “Personnel and Accounting Pay System-VA” (27VA047) as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), and 62 FR 68362 (12/31/97). This system of records contains information on current and former salaried VA employees.

Public Law 103-94 (October 6, 1993) created section 5520a of Title 5, United States Code, which permits the garnishment of Federal employees' wages. The Office of Personnel Management (OPM) issued regulations (5 CFR part 582) which implement the legislation. VA added a new routine use No. 28 on July 7, 1995, to system of records 27VA047 in order to comply with this legislation. This route specifically permitted the disclosure of information to a garnisher concerning the name and address of any new employer of a former VA employee who is the subject of a garnishment by legal process.

In conjunction with a garnishment procedure against a current employee, Federal agencies may also be served with interrogatories, and must respond to them in accordance with 5 U.S.C. 5520a and OPM regulations 5 CFR 582.202(a) and 582.303. The information sought under interrogatories is usually personal information protected by the Privacy Act, 5 U.S.C. 552a. Consequently, VA may provide information in response to the interrogatories only when the Privacy Act authorizes the disclosure.

It is unlikely employees would provide prior consent to the disclosure of information in response to interrogatories. In addition, interrogatories are not usually accompanied by a court order directing an agency to answer the interrogatories. Consequently, we are revising existing routine use number 28 in order to comply with the provisions on interrogatories found in 5 U.S.C. 5520a and OPM's regulations.

VA has determined the release of information for this purpose is a necessary and proper use of the information in this system of records and the revision of existing routine use number 28 for transfer of this information is appropriate.

An altered system of records report and a copy of the revised system notice have been sent to the House of Representatives Committee on Government Reform, the Senate Committee on Governmental Affairs, and the Office of Management and Budget (OMB) as required by 5 U.S.C. 552a(r) and guidelines issued by OMB (59 FR 37906, 37916-18 (7/25/94)).

Interested persons are invited to submit written comments, suggestions, or objections regarding the proposed routine use of the system of records to the Director, Office of Regulations Management (O2D), Department of Veterans Affairs, 810 Vermont Avenue, NW, Room 1154, Washington, DC 20420. All relevant material received before May 18, 2000 will be considered. All written comments received will be available for public inspection at the above address in the Office of Regulations Management, Room 1158, between the hours of 8 a.m. and 4:30 p.m., Monday through Friday, except holidays.

If no public comment is received during the 30-day review period allowed for public comment, or unless otherwise published in the Federal Register by VA, the new routine use statement is effective May 18, 2000.

Approved April 4, 2000.
Togo D. West, Jr.,
Secretary of Veterans Affairs.

[FR Doc. 00-9606 Filed 4-17-00; 8:45 am]

BILLING CODE 8320-01-M